DEPARTMENT OF ENERGY

[Dockets Nos. EA-247-B & EA-248-B]

Applications to Export Electric Energy; Constellation NewEnergy, Inc.

AGENCY: Office of Fossil Energy, DOE.

ACTION: Notice of applications.

SUMMARY: Under two separate applications, Constellation NewEnergy, Inc., (Constellation) has applied to renew, for a period of five years, its authority to transmit electric energy from the United States to Mexico and from the United States to Canada pursuant to section 202(e) of the Federal Power Act.

DATES: Comments, protests or requests to intervene must be submitted on or before April 1, 2005.

ADDRESSES: Comments, protests or requests to intervene should be addressed as follows: Office of Fossil Energy, (FE-27) U.S. Department of Energy, 1000 Independence Avenue, SW., Washington, DC 20585-0350 (FAX 202-287-5736).

FOR FURTHER INFORMATION CONTACT: Xavier Puslowski (Program Office) 202-586-4708 or Michael Skinker (Program Attorney) 202-586-2793.

SUPPLEMENTARY INFORMATION: Exports of electricity from the United States to a foreign country are regulated and require authorization under section 202(e) of the Federal Power Act (FPA) (16 U.S.C. 824a(e)).

On November 13, 2001, the Office of Fossil Energy (FE) of the Department of Energy (DOE) issued Order No. EA-247 which authorized Constellation (formerly AES NewEnergy, Inc.) to transmit electric energy from the United States to Mexico as a power marketer. On April 10, 2003, FE issued Order No. EA-247-A in which it renewed that authorization for a two-year term which expires on April 10, 2005. On March 9, 2005, Constellation applied to FE to renew the authorization contained in Order No. EA-247-A for a five-year term. In its application, Constellation requested expedited processing of its application so that it may undertake significant new sales into the Mexican market beginning in the Spring/Summer of 2005. DOE has decided to grant Constellation's request and has shortened the public comment period in this proceeding to 15 days.

On November 26, 2001, FE issued Order No. EA-248 which authorized Constellation to transmit electric energy from the United States to Canada as a power marketer. On April 8, 2003, FE issued Order No. EA-248-A which renewed that authorization for a two-year term which expires on April 8, 2005. On March 9, 2005, Constellation applied to FE to renew the authorization contained in Order No. EA-248-B for a five-year term. In its application, Constellation requested expedited processing of its application so that it can continue deliveries of electric energy ranging between 3,000 and 6,000 megawatt-hours per month to Canada. DOE has decided to grant Constellation's request and has shortened the public comment period to 15 days.

In the application filed in Docket No. EA-247-B, Constellation proposes to export electric energy to Mexico over the international transmission facilities owned by San Diego Gas and Electric Company, El Paso Electric Company, Central Power and Light Company, and Comision Federal de Electricidad, the national utility of Mexico.

In the application filed in Docket No. EA-248-B, Constellation proposes to export electric energy to Canada over the international transmission facilities owned by Basin Electric Power Cooperative, Bonneville Power Administration, Boise Cascade, Citizens Utilities Company, Eastern Maine Electric Cooperative, International Transmission Company, Joint Owners of the Highgate Project, Long Sault, Inc., Maine Electric Power Company, Maine Public Service Company, Minnesota Power Inc., Minnkota Power Cooperative, New York Power Authority, Niagara Mohawk Power Corporation, Northern States Power, and Vermont Electric Transmission Company.

The construction of each of the international transmission facilities to be utilized by Constellation NewEnergy, as more fully described in the applications, has previously been authorized by a Presidential permit issued pursuant to Executive Order 10485, as amended.

Procedural Matters. Any person desiring to become a party to these proceedings or to be heard by filing comments or protests to this application should file a petition to intervene, comment or protest at the address provided above in accordance with §§ 385.211 or 385.214 of the FERC's Rules of Practice and Procedures (18 CFR 385.211, 385.214). Fifteen copies of each petition and protest should be filed with the DOE on or before the dates listed above.

Comments on the Constellation application to export electric energy to Mexico should be clearly marked with Docket EA-247-B. Comments on the Constellation application to export electric energy to Canada should be clearly marked with Docket EA-248-B. Additional copies are to be filed directly with Cathy Barron, Esq. Counsel, Constellation NewEnergy, Inc., 800 Boylston St., 28th Floor, Boston, MA 02199 AND Jeffrey D. Watkiss, Esq., William S. Lavarco, Esq., Bracewell & Patterson, LLP, 2000 K Street, NW., 5th Floor, Washington, DC 20006.

A final decision will be made on each of these applications after the environmental impacts have been evaluated pursuant to the National Environmental Policy Act of 1969, and a determination is made by the DOE that the proposed action will not adversely impact on the reliability of the U.S. electric power supply system.

Copies of these applications will be made available, upon request, for public inspection and copying at the DOE address provided above or by accessing the Fossil Energy Home Page at http://www.fe.doe.gov. Upon reaching the Fossil Energy Home page, select “Electricity Regulation,” and then “Pending Proceedings” from the options menus.

Issued in Washington, DC, on March 11, 2005.
Anthony J. Como,
Deputy Director, Electric Power Regulation, Office of Fossil Energy.

[FR Doc. 05-5310 Filed 3-16-05; 8:45 am]

BILLING CODE 6450-01-P